DEPARTMENT OF VETERANS AFFAIRS

[OMB Control No. 2900-0586]

Agency Information Collection Activity: VA Acquisition Regulation Clause 852.211-72, Technical Industry Standards

AGENCY: Office of Acquisition and Logistics, Department of Veterans Affairs.

ACTION: Notice.

SUMMARY: In compliance with the Paperwork Reduction Act (PRA) of 1995, this notice announces that the Office of Acquisition and Logistics (OAL), Department of Veterans Affairs (VA), will submit the collection of information abstracted below to the Office of Management and Budget (OMB) for review and comment. The PRA submission describes the nature of the information and its expected cost and burden, and it includes the actual data collection instrument.

DATES: Comments and recommendations on the proposed information collection should be sent by December 22, 2025.

ADDRESSES: To submit comments and recommendations for the proposed information collection, please type the following link into your browser: www.reginfo.gov/public/do/PRAMain, select “Currently under Review—Open for Public Comments”, then search the list for the information collection by Title or “OMB Control No. 2900-0586.”

FOR FURTHER INFORMATION CONTACT: VA PRA information: Dorothy Glasgow, 202-461-1084, VAPRA@va.gov.

SUPPLEMENTARY INFORMATION:

Title: VA Acquisition Regulation Clause 852.211-72, Technical Industry Standards.

OMB Control Number: 2900-0586 https://www.reginfo.gov/public/do/PRASearch.

Type of Review: Extension without change of a currently approved collection.

Abstract: This Paperwork Reduction Act (PRA) submission seeks an extension of Office of Management and Budget (OMB) approval No. 2900-0586 for collection of information for both commercial and non-commercial item, service, and construction solicitations and contracts using VA Acquisition Regulation (VAAR) Clause 852.211-72, Technical Industry Standards, as prescribed in CFR Title 48, Federal Acquisition Regulations System, VAAR 811.204-70, Contract clause. VAAR clause 852.211-72, Technical Industry Standards, requires that items offered for sale to VA under the solicitation conform to certain technical industry standards, such as United States Department of Agriculture (USDA) Institutional Meat Purchase Specifications, and that the contractor furnish evidence to VA that the items meet that requirement. The evidence is normally in the form of a tag or seal affixed to the item, such as a label on beef product. In most cases, this requires no additional effort on the part of the contractor, as the items come from the factory with the tags already in place, as part of the manufacturer's standard manufacturing operation. Occasionally, for items not already meeting standards or for items not previously tested, a contractor will have to furnish a certificate from an acceptable laboratory certifying that the items furnished have been tested in accordance with, and conform to, the specified standards. Only firms whose products have not previously been tested to ensure the products meet the industry standards required under the solicitation and contract will be required to submit a separate certificate. The information will be used to ensure that the items being purchased meet minimum safety standards and to protect VA beneficiaries and VA employees.

An agency may not conduct or sponsor, and a person is not required to respond to a collection of information unless it displays a currently valid OMB control number. The Federal Register Notice with a 60-day comment period soliciting comments this collection of information was published at 90 FR 44904, September 17, 2025.

Affected Public: Business or other for-profit.

Estimated Annual Burden: 559 hours.

Estimated Average Burden per Respondent: 30 minutes.

Frequency of Response: One per contract.

Estimated Number of Respondents: 1,118.

Authority: 44 U.S.C. 3501 et seq.

Dorothy Glasgow,
Acting, VA PRA Clearance Officer, Office of Information Technology, Data Governance Analytics, Department of Veterans Affairs.

[FR Doc. 2025-20558 Filed 11-20-25; 8:45 am]

BILLING CODE 8320-01-P